OFFICE OF PERSONNEL MANAGEMENT

5 CFR Part 532

RIN 3206-AL74

Prevailing Rate Systems; Abolishment of Santa Clara, CA, as a Nonappropriated Fund Federal Wage System Wage Area

AGENCY: U.S. Office of Personnel Management.

ACTION: Final rule.

SUMMARY: The U.S. Office of Personnel Management is issuing a final rule to abolish the Santa Clara, California, nonappropriated fund (NAF) Federal Wage System (FWS) wage area and redefine Santa Clara County, CA, to the Monterey, CA, NAF wage area and Alameda, Contra Costa, and San Francisco Counties, CA, to the Solano, CA, NAF wage area. San Mateo County, CA, will no longer be defined to a wage area. These changes are necessary because the closure of the Moffett Federal Airfield Navy Exchange left the Santa Clara wage area without an activity having the capability to conduct a local wage survey.

DATES: Effective date: This regulation is effective on March 9, 2009. Applicability date: This regulation applies on the first day of the first applicable pay period beginning on or after November 15, 2008.

FOR FURTHER INFORMATION CONTACT: Madeline Gonzalez, (202) 606-2838; e-mail pay-performance-policy@opm.gov; or FAX: (202) 606-4264.

SUPPLEMENTARY INFORMATION: On November 4, 2008, the U.S. Office of Personnel Management (OPM) issued an interim rule (73 FR 65495) to abolish the Santa Clara, California, nonappropriated fund (NAF) Federal Wage System wage area, redefine Santa Clara County, CA, to the Monterey, CA, NAF wage area and Alameda, Contra Costa, and San Francisco Counties, CA, to the Solano, CA, NAF wage area, and remove San Mateo County, CA, from the wage area definition. The interim rule had a 30-day public comment period, during which OPM received no comments.

Regulatory Flexibility Act

I certify that these regulations will not have a significant economic impact on a substantial number of small entities because they will affect only Federal agencies and employees.

List of Subjects in 5 CFR Part 532

Administrative practice and procedure, Freedom of information, Government employees, Reporting and recordkeeping requirements, Wages.

U.S. Office of Personnel Management.
Kathie Ann Whipple,
Acting Director.

Accordingly, under the authority of 5 U.S.C. 5343, the interim rule published on November 4, 2008, amending 5 CFR part 532 (73 FR 65495) is adopted as final with no changes.

[FR Doc. E9-4925 Filed 3-6-09; 8:45 am]

BILLING CODE 6325-39-P